DEPARTMENT OF HOMELAND SECURITY

U.S. Customs and Border Protection

Agency Information Collection Activities: Cargo Manifest/Declaration, Stow Plan, Container Status Messages and Importer Security Filing

AGENCY: U.S. Customs and Border Protection, Department of Homeland Security.

ACTION: 30-Day notice and request for comments; Extension of an existing information collection.

SUMMARY: U.S. Customs and Border Protection (CBP) of the Department of Homeland Security will be submitting the following information collection request to the Office of Management and Budget (OMB) for review and approval in accordance with the Paperwork Reduction Act: Cargo Manifest/Declaration, Stow Plan, Container Status Messages and Importer Security Filing. This is a proposed extension of an information collection that was previously approved. CBP is proposing that this information collection be extended with a change to the burden hours. There is no change to the information collected. This document is published to obtain comments from the public and affected agencies. This proposed information collection was previously published in the Federal Register (76 FR 72715) on November 25, 2011, allowing for a 60-day comment period. This notice allows for an additional 30 days for public comments. This process is conducted in accordance with 5 CFR 1320.10.

DATES: Written comments should be received on or before March 8, 2012.

ADDRESSES: Interested persons are invited to submit written comments on this proposed information collection to the Office of Information and Regulatory Affairs, Office of Management and Budget. Comments should be addressed to the OMB Desk Officer for Customs and Border Protection, Department of Homeland Security, and sent via electronic mail to oira_submission@omb.eop.gov or faxed to (202) 395-5806.

SUPPLEMENTARY INFORMATION: U.S. Customs and Border Protection (CBP) encourages the general public and affected Federal agencies to submit written comments and suggestions on proposed and/or continuing information collection requests pursuant to the Paperwork Reduction Act (Pub. L. 104-13). Your comments should address one of the following four points:

(1) Evaluate whether the proposed collection of information is necessary for the proper performance of the functions of the agency/component, including whether the information will have practical utility;

(2) Evaluate the accuracy of the agencies/components estimate of the burden of the proposed collection of information, including the validity of the methodology and assumptions used;

(3) Enhance the quality, utility, and clarity of the information to be collected; and

(4) Minimize the burden of the collections of information on those who are to respond, including the use of appropriate automated, electronic, mechanical, or other technological techniques or other forms of information.

Title: Cargo Manifest/Declaration, Stow Plan, Container Status Messages and Importer Security Filing.

OMB Number: 1651-0001.

Form Numbers: CBP Forms 1302, 1302A, 7509, 7533.

Abstract: CBP Form 1302: The master or commander of a vessel arriving in the United States from abroad with cargo on board must file CBP Form 1302, Inward Cargo Declaration, or submit the information on this form using a CBP-approved electronic equivalent. CBP Form 1302 is part of the manifest requirements for vessels entering the United States and was agreed upon by treaty at the United Nations Inter-government Maritime Consultative Organization (IMCO). This form is provided for by 19 CFR 4.5, 4.7, 4.8, 4.33, 4.34, 4.84, 4.85, 4.86, 4.91 and 4.99. It is accessible at: http://forms.cbp.gov/pdf/CBP_Form_1302.pdf.

CBP Form 1302A: The master or commander of a vessel departing from the United States must file CBP Form 1302A, Cargo Declaration Outward With Commercial Forms, with copies of bills of lading or equivalent commercial documents relating to all cargo encompassed by the manifest. This form is provided for by 19 CFR 4.62, 4.63, 4.75, 4.82, and 4.87-4.89 and is accessible at: http://forms.cbp.gov/pdf/CBP_Form_1302.pdf.

CBP Form 7509: The aircraft commander or agent must file two copies of CBP Form 7509, Air Cargo Manifest, with CBP at the departure airport, or respondents may submit the information on this form using a CBP-approved electronic equivalent. CBP Form 7509 contains information about the cargo onboard the aircraft. This form is provided for by 19 CFR 122.35, 122.48, 122.52, 122.54, 122.73, 122.113, and 122.118 and is accessible at: http://forms.cbp.gov/pdf/CBP_Form_7509.pdf.

CBP Form 7533: The master or person in charge of a conveyance files CBP Form 7533, INWARD CARGO MANIFEST FOR VESSEL UNDER FIVE TONS, FERRY, TRAIN, CAR, VEHICLE, ETC, which is required for a vehicle or a vessel of less than 5 net tons arriving in the United States from Canada or Mexico, otherwise than by sea, with baggage or merchandise. Respondents may also submit the information on this form using a CBP-approved electronic equivalent. CBP Form 7533 is provided for by 19 CFR 123.4 and is accessible at: http://forms.cbp.gov/pdf/CBP_Form_7533.pdf.

Manifest Confidentiality: An importer or consignee may request confidential treatment of its name and address contained in manifests by following the procedure set forth in 19 CFR 103.31.

Vessel Stow Plan: For all vessels transporting goods to the US, except for any vessel exclusively carrying bulk cargo, the incoming carrier is required to electronically submit a vessel stow plan no later than 48 hours after the vessel departs from the last foreign port which includes information about the vessel and cargo. For voyages less than 48 hours in duration, CBP must receive the vessel stow plan prior to arrival at the first port in the U.S. The vessel stow plan is provided for by 19 CFR 4.7c.

Container Status Messages (CSMs): For all containers destined to arrive within the limits of a U.S. port from a foreign port by vessel, the incoming carrier must submit messages regarding the status of the events if the carrier creates or collects a container status message (CSM) in its equipment tracking system reporting that event. CSMs must be transmitted to CBP via a CBP-approved electronic data interchange system. These messages transmit information regarding events such as the status of a container (full or empty); booking a container destined to arrive in the U.S.; loading or unloading a container from a vessel; and a container arriving or departing the U.S. CSMs are provided for by 19 CFR 4.7d.

Importer Security Filing (ISF): For most cargo arriving in the U.S. by vessel, the importer, or its authorized agent, must submit the data elements listed in 19 CFR 149.3 via a CBP-approved electronic interchange system within prescribed time frames. Transmission of these data elements provide CBP with advanced information about the shipment.

Current Actions: CBP proposes to extend the expiration date of this information collection with no changes to the information collected on the forms or regulations included in this information collection request. However, CBP has revised its estimates of the burden hours and response times based on analysis of recent data as follows:

CBP Form 7509, Air Cargo Manifest: the time per response was lowered from 34 minutes to 15 minutes.

CBP Form 1302, Cargo Declaration: the time per response was raised from 10 minutes to 30 minutes.

Importer Security Filing: the number of total annual responses was lowered from 11,300,000 to 8,100,000.

Vessel Stow Plan: the number of respondents was lowered from 440 to 163.

Container Status Messages: the number of respondents was lowered from 74 to 60, and the number of total responses was raised from 72,121,193 to 257,100,000.

Manifest Confidentiality: the number of responses was raised from 1,078 to 5,040 and the time per response was lowered from 30 minutes to 15 minutes.

Type of Review: Extension (with change)

Affected Public: Businesses

Estimates of the burden hours and response times:

Collection | Total burden hours | Number of respondents | Number of responses per respondent | Total responses | Time per response
Air Cargo Manifest (CBP Form 7509) | 366,600 | 260 | 5,640 | 1,466,400 | 15 minutes
Inward Cargo Manifest for Truck, Rail, Vehicles, Vessels, etc. (CBP Form 7533) | 962,940 | 33,000 | 291.8 | 9,629,400 | 6 minutes
Cargo Declaration (CBP Form 1302) | 1,500,000 | 10,000 | 300 | 3,000,000 | 30 minutes
Export Cargo Declaration (CBP Form 1302A) | 10,000 | 500 | 400 | 200,000 | 3 minutes
Importer Security Filing | 17,739,000 | 240,000 | 33.75 | 8,100,000 | 2.19 hours
Vessel Stow Plan | 31,803 | 163 | 109 | 17,767 | 1.79 hours
Container Status Messages | 23,996 | 60 | 4,285,000 | 257,100,000 | .0056 minutes
Request for Manifest Confidentiality | 1,260 | 5,040 | 1 | 5,040 | 15 minutes
Total | 20,635,599 | 289,023 |  | 279,518,607 |

If additional information is required contact: Tracey Denning, U.S. Customs and Border Protection, Regulations and Rulings, Office of International Trade, 799 9th Street, NW., 5th Floor, Washington, DC, 20229-1177, at (202) 325-0265.

Dated: February 2, 2012.
Tracey Denning,
Agency Clearance Officer, U.S. Customs and Border Protection.

[FR Doc. 2012-2763 Filed 2-6-12; 8:45 am]

BILLING CODE 9111-14-P